DEPARTMENT OF JUSTICE

Drug Enforcement Administration

Manufacturer of Controlled Substances; Notice of Application

Pursuant to section 1302.33(a) of Title 21 of the Code of Federal Regulations (CFR), this is notice that on May 2, 2002, ISP Freetown Fine Chemicals, Inc., 238 South Main Street, Freetown, Massachusetts 02702, made application by letter to the Drug Enforcement Administration (DEA) for registration as a bulk manufacturer of the basic classes of controlled substances listed below:

Drug | Schedule
Methylphenidate (1724) | II
Dextropropoxyphene, bulk (non-dosage forms) (9273) | II

The firm plans to bulk manufacture the methylphenidate to produce a commercial product and manufacture the dextropropoxyphene to supply the generic market.

Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, DC 20537, Attention: DEA Federal Register Representative (CCR), and must be fled no later than November 4, 2002.

Dated: August 23, 2002.
Laura M. Nagel,
Deputy Assistant Administrator, Office of Diversion Control, Drug Enforcement Administration.

[FR Doc. 02-22556 Filed 9-4-02; 8:45 am]

BILLING CODE 4410-09-M